DEPARTMENT OF TRANSPORTATION

Office of the Secretary

Privacy Act of 1974: System of Records

AGENCY: Federal Motor Carrier Safety Administration (FMCSA), Department of Transportation.

ACTION: Notice to establish a new system of records.

SUMMARY: FMCSA proposes to establish the system of records called “Medical Exemption Program” in compliance with the terms of the Privacy Act of 1974 (5 U.S.C. 552a). FMCSA has established the Medical Exemption Program to support the paper-based Federal Vision Exemption Program (FVEP), the paper-based Federal Diabetes Exemption Program (FDEP), and the web-based Med-Ex application managed by the FMCSA Office of Medical Programs. Medical Exemption Program is maintained by MANILA Consulting Group, Inc. (MANILA), an FMCSA contractor. The mission of the FMCSA Office of Medical Programs is to improve the safety of U.S. roadways by disseminating and implementing the medical regulations, guidelines, and policies that ensure commercial motor vehicle (CMV) drivers engaged in interstate commerce are physically qualified to do so. Only authorized DOT personnel with a specific “need to know” can access CMV driver exemption information in Medical Exemption Program. A request from any other individual or entity (e.g., a law firm) for CMV driver exemption information in Medical Exemption Program is treated as a Freedom of Information Act (FOIA) request by FMCSA and processed accordingly. FMCSA performs routine audits of the Medical Exemption Program to ensure that privacy and security objectives are met.

More detailed information concerning the Medical Exemption Program system of records is located within this document. A System of Records Notice (SORN) for the Medical Exemption Program will be published in the Federal Register and posted on the DOT Web site. The Privacy Impact Assessment (PIA) for the Medical Exemption Program will be located on the DOT Web site (http://www.dot.gov/pia.html).

DATES: Effective March 24, 2011. Written comments should be submitted on or before the effective date. If comments are received, the comments will be considered and, where adopted, FMCSA will republish the SORN with the changes or publish an amended SORN.

FOR SUBMITTING COMMENTS: Send comments to Pam Gosier-Cox, FMCSA Privacy Officer, FMCSA Office of Information Technology, MC-RI, U.S. Department of Transportation, 1200 New Jersey Avenue, SE., Washington, DC 20590 or pam.gosier.cox@dot.gov.

FOR FURTHER INFORMATION CONTACT: Habib Azarsina, Departmental Privacy Officer, S-80, United States Department of Transportation, Office of the Secretary of Transportation, 1200 New Jersey Avenue, SE., Washington DC 20590; telephone 202.366.1965, or habib.azarsina@dot.gov.

SUPPLEMENTARY INFORMATION:

I. Background

Section 4007 of Public Law 105-178—enacted as the Transportation Equity Act for the 21st Century (TEA-21)—amends Section 31315 and Section 31136(e) of Title 49 of the U.S. Code. TEA-21 allows DOT to grant exemptions from Federal Motor Carrier Safety Regulations (FMCSR) if DOT finds an exemption would likely achieve a level of safety that is equivalent to, or greater than, the level that would be achieved absent the exemption.

II. Medical Exemption Program

The FVEP and the FDEP provide exemptions for CMV drivers who do not meet the federal vision standard [49 CFR 391.41(b)(10)] or the federal diabetes standard [49 CFR 391.41(b)(3)] in the FMCSR. TEA-21 gives FMCSA broad authority to establish exemption application procedures and the process by which exemption applications are to be managed by FMCSA in order to minimize delays. FMCSA will continue to process diabetes exemption applications using a paper-based system. FMCSA will use the Med-Ex web application to process vision exemption applications. The Medical Exemption Program is designed to perform the following in support of the submission, review, and management of all applicants requesting vision and diabetes exemptions:

1. Provide CMV drivers with the option of applying for a vision exemption electronically in order to expedite the process;

2. Allow FMCSA to process and manage all vision and diabetes exemption applications sent electronically or via mail; and

3. Archive all vision and diabetes exemption program records.

The Medical Exemption Program also allows the FMCSA Office of Medical Programs to monitor CMV drivers for compliance with exemption conditions and determine if CMV drivers remain eligible for an exemption during the exemption renewal process.

The Medical Exemption Program contains Personally Identifiable Information (PII) concerning CMV drivers, such as name; date of birth; Social Security Number (SSN); driver license number and issuing state; medical evaluations from medical examiners, eye care practitioners, and medical specialists; copies of motor vehicle records (MVR); photocopies of driver licenses; and proof of commercial driving experience. This PII is used to positively identify CMV drivers and to determine if CMV drivers qualify for an exemption.

III. Privacy Act

The Privacy Act of 1974 (5 U.S.C. 552a) governs the means by which the United States Government collects, maintains, and uses PII in a system of records. A “system of records” is a group of records under the control of a federal agency from which information about individuals is retrieved by name or other personal identifier. In accordance with the Privacy Act, each federal agency must publish in the Federal Register a System of Records Notice (SORN) identifying and describing each system of records the agency maintains, including the purposes for which the agency uses PII in the system, the routine uses for which the agency discloses such information outside the agency, and how individuals to whom a Privacy Act record pertains can exercise their rights under the Privacy Act (e.g., to determine if the system contains information about them).

IV. Privacy Impact Assessment

FMCSA is publishing a Privacy Impact Assessment (PIA) for Medical Exemption Program to coincide with the publication of the Medical Exemption Program SORN. In accordance with 5 U.S.C. 552a(r), a report on the establishment of this system of records has been sent to the U.S. Congress and the Office of Management and Budget (OMB).

V. System of Records Notice

System Number:

DOT/FMCSA 008

System Name:

Medical Exemption Program.

Security Classification:

Unclassified, Sensitive.

System Location:

Medical Exemption Program databases reside at the following locations:

• Volpe National Transportation Systems Center (Volpe Center), U.S. Department of Transportation, Cambridge, MA 02142.

• MANILA Consulting Group, Inc. (MANILA), McLean, VA 22101.

Categories of Individuals Covered by the System of Records:

The Medical Exemption Program includes PII from CMV drivers applying for an exemption from the federal vision standard [49 CFR 391.41(b)(10)] or the federal diabetes standard [49 CFR 391.41(b)(3)] in the FMCSR.

Categories of Records in Medical Exemption Program:

FMCSA has established the Medical Exemption Program to support the paper-based Federal Vision Exemption Program (FVEP), the paper-based Federal Diabetes Exemption Program (FDEP), and the web-based Med-Ex application managed by the FMCSA Office of Medical Programs.

Federal Vision Exemption Database—A legacy database that contains PII, including sensitive health information received from CMV drivers applying for a vision exemption from the federal vision standard [49 CFR 391.41(b)(10)] via mail, e-mail, and fax prior to the launch of Med-Ex. There are no external users of this database.

Federal Diabetes Exemption Database—A database that contains PII, including sensitive health information received from CMV drivers applying for a diabetes exemption from the federal diabetes standard [49 CFR 391.41(b)(3)] via mail, email, and fax. There are no external users of this database.

Med-Ex Application—A web-based application that collects and stores PII, including sensitive health information from CMV drivers applying for a vision exemption from the federal vision standard [49 CFR 391.41(b)(10)] via hardcopy applications mailed to FMCSA and electronic applications submitted through the Med-Ex Web site.

The Medical Exemption Program collects the following PII or information containing PII from CMV drivers as part of the vision exemption application process:

A. Applicant Information

• Name

• Home address

• Home/mobile phone number

• Gender

• Date of birth

• SSN

B. CMV Driver Information

• Driver license number and issuing state

• Driver license classification code

• Driver license date of issuance and expiration date

• Restrictions and endorsements

• Copy of valid driver license

• List of all licenses held to operate CMVs in last three years

• Copy of motor vehicle record (MVR) covering last three years.

(Florida drivers must supply official copy of complete driving record from state of Florida due to state citation and accident reporting requirements. Indiana drivers must supply copies of accident reports from state police in addition to MVR due to state accident reporting requirements.)

C. Employment Information

• Current employer name, address, and phone number

• If employed by or leased to companies, driving history and name, address, and phone number for each company for past three years

• If self-employed, all customer names, addresses, and phone numbers for past three years

• Dates of employment

D. Medical Information

• Optometrist/ophthalmologist letter stating the following:

• Date of examination

• Nature, duration, and stability of vision deficiency

• Corrected and uncorrected visual acuity for each eye

• Field of vision test results for each eye

• Color vision information

• Medical opinion regarding ability to operate CMVs with diagnosed visual deficiency

The Medical Exemption Program collects the following PII or information containing PII from CMV drivers as part of the diabetes exemption application process:

A. Applicant Information

• Name

• Home address

• Home/mobile phone number

• Gender

• Date of birth

• SSN

B. CMV Driver Information

• Copy of valid driver license

• Copy of MVR from official state agency

• List of waivers, exemptions, and skill performance evaluation certificates

C. Employment Information

• Current employer name, address, and phone number

D. Medical Information

• Medical Examination Report

• Medical Examiner's Certificate

• Endocrinologist Evaluation Checklist

• Vision Evaluation Checklist

Authority for Maintenance of the System:

Motor Carrier Safety Act of 1984 [49 U.S.C. 31136(e)] and the Transportation Equity Act for the 21st Century (TEA-21) (49 U.S.C. 31315)

Purpose(s):

The purpose for maintaining vision and diabetes exemption records in the Medical Exemption Program is to provide the FMCSA Office of Medical Programs with sufficient information to determine if CMV drivers are eligible for an exemption from the federal vision standard [49 CFR 391.41(b)(10)] or the federal diabetes standard [49 CFR 391.41(b)(3)] in the FMCSR. However, some of the CMV driver information that is collected during the exemption application process is used to ensure that duplicate applications are not submitted. The Medical Exemption Program also collects quarterly and annual medical monitoring information to determine if CMV drivers that have received a diabetes exemption are in compliance with the conditions of the exemption. During the exemption renewal process, updated application information is compared to application information stored in the Medical Exemption Program to determine if CMV drivers remain eligible for a vision or diabetes exemption.

Routine Uses of Records Maintained in the System, Including Categories of Users and Purposes of Use:

• Information is accessed by FMCSA Office of Medical Programs employees and FMCSA contractors responsible for processing, monitoring, and reviewing exemption applications and by FMCSA employees and contractors responsible for system support and maintenance.

Some applicant information (name, age, basic information related to applicant's medical condition, and current driver license class) is published in the Federal Register in a notice requesting public comment upon receipt of an exemption request (49 U.S.C. 31315).

See DOT Prefatory Statement of General Routine Uses published in the Federal Register on December 29, 2010 (75 FR 82132).

Disclosure to Consumer Reporting Agencies:

None.

Policies and Practices for Storing, Retrieving, Accessing, Retaining, and Disposing of Records:

Storage:

Electronic records are stored in the Medical Exemption Program databases at the Volpe Center and MANILA. Vision exemption applications submitted via the web-based Med-Ex application are stored in a database in a secured area within the Volpe Center located in Cambridge, MA. Hardcopy vision exemption applications submitted via mail, email, or fax are entered and scanned into Med-Ex and stored in a secured area at MANILA until a disposition decision is made. MANILA destroys these hardcopy applications after FMCSA completes the disposition of the application. All hardcopy diabetes and vision exemption applications are stored in locked file cabinets.

Retrievability:

Electronic records are retrieved by using automated searches. Name, tracking number, application status, SSN, and date of birth may be used to retrieve records in the Medical Exemption Program.

Accessibility (Including Safeguards):

All records in the Medical Exemption program at the Volpe Center and MANILA are protected from unauthorized access through appropriate administrative, physical, and technical safeguards. Electronic files are stored in separate databases at MANILA and the Volpe Center that are secured by password security, encryption, firewalls, and secured operating systems and to which only authorized personnel with a specific “need to know” have access. Paper files are stored in file cabinets in a locked file room to which only authorized MANILA personnel with a specific “need to know” have access. Physical access to the Volpe Center and MANILA is restricted to authorized personnel. All access to the electronic system and paper files is logged and monitored. Access to electronic records is password protected, and the scope of access for each password is limited to the official need of each individual authorized access.

Retention and Disposal:

The proposed Medical Exemption Program records schedule has been submitted to the U.S. National Archives and Records Administration (NARA) and is pending approval. Medical Exemption Program applications with a status of accepted are assigned a disposition date of 10 years. All other applications are assigned a disposition date of 3 years after the application date or 30 days after a status change to deceased, whichever occurs first. Medical Exemption Program applications are destroyed at the end of each calendar year following the disposition date. Hardcopy documents that have been entered and scanned into the Med-Ex application are assigned a 30-day disposition date following the disposition date assigned to the electronic record and destroyed at the end of the calendar year.

System Manager Contact Information:

Office of Medical Programs, Federal Motor Carrier Safety Administration, U.S. Department of Transportation, 1200 New Jersey Avenue SE., Washington, DC 20590

Notification Procedure:

Individuals wishing to know if their records appear in this system may make a request in writing to the System Manager. The request must include the requester's name, mailing address, telephone number and/or e-mail address, a description and the location of the records requested, and verification of identity (such as a statement, under penalty of perjury, that the requester is the individual who he or she claims to be).

Record Access Procedure:

Individuals seeking access to information about them in this system should apply to the System Manager by following the same procedures as indicated under “Notification Procedure.”

Contesting Record Procedure:

Individuals seeking to contest the content of information about them in this system should apply to the System Manager by following the same procedures as indicated under “Notification Procedure.”

Record Source Categories:

CMV drivers requesting a vision or diabetes exemption are responsible for submitting the following documentation, as appropriate:

• Completed vision or diabetes exemption application.

• Copy of valid driver license.

• Copy of MVR from official state agency.

• Medical Examiner's Certificate.

• Medical Examination Report.

• Endocrinologist Evaluation Checklist.

• Vision Evaluation Checklist or letter from optometrist/ophthalmologist.

• Letters from employers concerning employment history or customer information if self-employed.

For vision exemption applications, authorized MANILA personnel use the Commercial Driver's License Information System (CDLIS) to verify that convictions reported on MVR are accurate and up-to-date. Convictions that are included in CDLIS but missing from MVR are verified by requesting ticket information and police reports from CMV drivers. CDLIS information is reviewed several times during the application process and continues to be monitored after an exemption has been granted.

Exemptions Claimed for the System:

Pursuant to subsection (k)(2) of the Privacy Act (5 U.S.C. 552a), portions of this system are exempt from the requirements of subsections (c)(3), (d), (e)(4)(G)-(I), and (f) of the Privacy Act for the reasons stated in DOT's Privacy Act regulations (49 CFR Part 10, Appendix, Part II, A.8).

Dated: February 15, 2011.
Habib Azarsina,
Departmental Privacy Officer, 202-366-1965 .

[FR Doc. 2011-3825 Filed 2-18-11; 8:45 am]

BILLING CODE 4910-9X-P